DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcement (FOA) PAR14-275, State Occupational Health and Safety Surveillance Program (U60).

Times and Dates:

5:00 p.m.-10:00 p.m., EST, December 8, 2015 (Closed)

7:00 a.m.-10:00 p.m., EST, December 9, 2015 (Closed)

7:00 a.m.-6:00 p.m., EST, December 10, 2015 (Closed)

Place: Embassy Suites Alexandria-Old Town, 1900 Diagonal Road, Alexandria, Virginia 22314, Telephone: 703-684-5900.

Status: The meeting will be closed to the public in accordance with provisions set forth in Section 552b(c) (4) and (6), Title 5 U.S.C., and the Determination of the Director, Management Analysis and Services Office, CDC, pursuant to Public Law 92-463.

Matters For Discussion: The meeting will include the initial review, discussion, and evaluation of applications received in response to FOA “State Occupational Health and Safety Surveillance Program (U60), PAR14-275, initial review.”

Contact Person for More Information: Donald Blackman, Ph.D., Scientific Review Officer, National Institute for Occupational Safety and Health, CDC, 2400 Century Center Parkway NE., 4th Floor, Mailstop E-74, Atlanta, Georgia 30345, Telephone: 404-498-6185, DYB7@CDC.GOV.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2015-27563 Filed 10-28-15; 8:45 am]

BILLING CODE 4163-18-P